DEPARTMENT OF JUSTICE

Antitrust Division

Notice Pursuant to the National Cooperative Research and Production Act of 1993—Die Products Consortium (“DPC”)

Notice is hereby given that, on November 15, 1999, pursuant to section 6(a) of the National Cooperative Research and Production Act of 1993, 15 U.S.C. 4301 et seq. (“the Act”), Die Products Consortium (“DPC”) has filed written notifications simultaneously with the Attorney General and the Federal Trade Commission disclosing (1) The identities of the parties and (2) the nature and objectives of the venture. The notifications were filed for the purpose of invoking the Act's provisions limiting the recovery of antitrust plaintiffs to actual damages under specified circumstances. Pursuant to section 6(b) of the Act, the identities of the parties are Amkor Technology, Inc., West Chester PA; Chip Supply, Inc., Orlando, FL; Cypress Semiconductor Corporation, San Jose, CA; Honeywell, Inc., Minneapolis, MN; Intel Corporation, Santa Clara, CA; Lucent Technologies, Inc., Murray Hill, NJ, Microelectronics and Computer Technology Corporation, Austin, TX; National Semiconductor Corporation, Santa Clara, CA; Rockwell Collins, Inc., Cedar Rapids, IA; Tempo Electronics, North Hollywood, CA; and Texas Instruments, Dallas, TX. The nature and objectives of the venture are to provide leadership to the microelectronics industry to promote methods for improved die product (including flip chip) quality, reliability, handling, shipping, and associated infrastructure at lowest cost to meet the needs of users for smaller form factor, higher performance, lower cost products.

Constance K. Robinson,
Director of Operations, Antitrust Division.

[FR Doc. 00-16003 Filed 6-23-00; 8:45 am]

BILLING CODE 4410-11-M